DEPARTMENT OF TRANSPORTATION

Coast Guard

33 CFR Part 165

[CGD09-02-004]

RIN 2115-AA97

Security Zones; Captain of the Port Detroit Zone, Selfridge Air National Guard Base, Lake St. Clair

AGENCY: Coast Guard, DOT.

ACTION: Final rule.

SUMMARY: The Coast Guard is establishing a permanent security zone on the navigable waters of Lake St. Clair, in the Captain of the Port Detroit Zone. This security zone is necessary to protect the Selfridge Army National Guard Base from possible acts of terrorism. This security zone is intended to restrict vessel traffic from predetermined and specific areas off of Selfridge Army National Guard Base in Lake St. Clair.

DATES: This rule is effective June 7, 2002.

ADDRESSES: Comments and material received from the public, as well as documents indicated in this preamble as being available in the docket, are part of docket CGD09-02-004 and are available for inspection or copying at Coast Guard Marine Safety Office, 110 Mt. Elliott Ave, Detroit, Michigan between 8 a.m. and 4 p.m., Monday through Friday, except Federal Holidays. The telephone number is (313) 568-9580.

FOR FURTHER INFORMATION CONTACT: LTJG Brandon Sullivan, U.S. Coast Guard Marine Safety Office Detroit, at (313) 568-9580.

SUPPLEMENTARY INFORMATION:

Regulatory Information

On April 11, 2002, we published a Notice of Proposed Rulemaking (NPRM) entitled Security Zone; Selfridge Army National Guard Base, MI. in the Federal Register (67 FR 17667). We received no letters commenting on the proposed rule. No public hearing was requested, and none was held.

Under 5 U.S.C. 553(d)(3), the Coast Guard finds that good cause exists for making this rule effective less than 30 days after publication in the Federal Register. In response to the terrorists attacks on September 11, 2001, the Coast Guard implemented temporary security zones around critical facilities throughout the U.S. One such facility was the Selfridge Army National Guard Base. A security zone around the Selfridge Army National Guard Base helps protect against the subversive type of activity that resulted in the World Trade Center and Pentagon attacks. Since the temporary security zone will expire on June 15, 2002, in order to continue ensuring security at the Selfridge Army National Guard Base, this final rule must be implemented prior to the June 15 expiration. (See 66 FR 52851, October 18, 2001). As such, it is necessary to make this rule effective less than 30 days after publication.

Background and Purpose

On September 11, 2001, the United States was the target of coordinated attacks by international terrorists resulting in catastrophic loss of life, the destruction of the World Trade Center, and significant damage to the Pentagon. National security and intelligence officials warn that future terrorists attacks are likely. To protect from such, this regulation will establish a permanent security zone off the waters of Selfridge Army National Guard Base in Harrison Township, Michigan.

This security zone is necessary to protect the public, facilities, and the surrounding area from possible sabotage or other subversive acts. All persons other than those approved by the Captain of the Port Detroit, or his authorized representative, are prohibited from entering or moving within this zone. The Captain of the Port Detroit may be contacted via VHF Channel 16 for further instructions before transiting through the restricted area. The Captain of the Port Detroit's on-scene representative will be the patrol commander. In addition to publication in the Federal Register, the public will be made aware of the existence of this security zone, exact location and the restrictions involved via Broadcast Notice to Mariners.

Discussion of Final Rule

Following the catastrophic nature and extent of damage realized from the attacks of September 11, this rulemaking is necessary to protect the national security interests of the United States against future public and governmental targets.

On April 11, 2002 the Coast Guard published a Notice of Proposed Rulemaking for a permanent security zone off of the Army National Guard Base (33 CFR 165.910) This regulation will establish a permanent security zone on the waters off of Selfridge Army National Guard Base in Michigan, commencing at the northeast corner of Selfridge Army National Guard Base at 42°37.8′ N, 082°49.1′ W; east to 42°37.8′ N, 082°48.45′ W (approximately one half mile from shore; south to 42°37.2′ N, 082°48.45′ W; then southeast to 42°36.8′ N, 082°47.2′ W; then southwest to 42°36.4′ N, 082°47.9′ W (northeast corner of the Westside breakwall at the entrance to Mac and Rays Marina); then following the shoreline back to the beginning. The south and western boundaries are the shoreline of Selfridge Army National Guard Base.

Regulatory Evaluation

This final rule is not a significant regulatory action under section 3(f) of Executive Order 12866 and does not require an assessment of potential costs and benefits under section 6(a)(3) of that order. The Office of Management and Budget has exempted it from review under that order. It is not significant under the regulatory policies and procedures of the Department of Transportation (DOT) (44 FR 11040, February 26, 1979). The Coast Guard expects the economic impact of this proposal to be so minimal that a full Regulatory Evaluation under paragraph 10(e) of the regulatory policies and procedures of DOT is unnecessary.

Small Entities

Under the Regulatory Flexibility Act (5 U.S.C. 601-612), we have considered whether this final rule would have a significant economic impact on a substantial number of small entities. The term “small entities” comprises small businesses, not-for-profit organizations that are independently owned and operated and are not dominant in their fields, and governmental jurisdictions with populations of less than 50,000.

The Coast Guard certifies under 5 U.S.C. 605(b) that this final rule would not have a significant economic impact on a substantial number of small entities.

This security zone will not have a significant economic impact on a substantial number of small entities for the following reasons. This rule will not obstruct the regular flow of commercial traffic and will allow vessel traffic to pass around the security zone.

Assistance for Small Entities

Under section 213(a) of the Small Business Regulatory Enforcement Fairness Act of 1996 (Public Law 104-121), we want to assist small entities in understanding this final rule so that they can better evaluate its effects on them and participate in the rulemaking. If the rule would affect your small business, organization, or governmental jurisdiction and you have questions concerning its provisions or options for compliance, please contact the office listed in ADDRESSES in this preamble. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This final rule would call for no new collection of information under the Paperwork Reduction Act of 1995 (44 U.S.C. 3501-3520.).

Federalism

We have analyzed this final rule under Executive Order 13132, Federalism, and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this final rule would not result in such an expenditure, we do discuss the effects of this rule elsewhere in this preamble.

Taking of Private Property

This final rule would not affect a taking of private property or otherwise have taking implications under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and would not create an environmental risk to health or risk to safety that might disproportionately affect children.

Indian Tribal Governments

This final rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this final rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

Environment

We have considered the environmental impact of this final rule and concluded that, under figure 2-1, paragraph (34)(g), of Commandant Instruction M16475.lC, this rule is categorically excluded from further environmental documentation.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

§ 165.T09-998 [Removed]

2. Remove § 165.T09-998

3. Add § 165.910 to read as follows:

§ 165.908 Security Zones; Captain of the Port Detroit Zone, Selfridge Army National Guard Base.

(a) Location. The following is a security zone: All waters and adjacent shoreline of Lake St. Clair encompassed by a line commencing at the northeast corner of Selfridge Army National Guard Base at 42°37.8′ N, 082°49.1′ W; east to 42°37.8′ N, 082°48.45′ W (approximately one half mile from shore); south to 42°37.2′ N, 082°48.45′ W; then southeast to 42°36.8′ N, 082°47.2′ W; then southwest to 42°36.4′ N, 082°47.9′ W (northeast corner of the Westside breakwall at the entrance to Mac and Rays Marina); then following the shoreline back to the beginning.

(b) Regulations. (1) In accordance with § 165.33, entry into this zone is prohibited unless authorized by the Coast Guard Captain of the Port Detroit. Section 165.33 also contains other general requirements.

(2) Persons desiring to transit the area of the security zone may contact the Captain of the Port at telephone number (313) 568-9580, or on VHF channel 16 to seek permission to transit the area. If permission is granted, all persons and vessels shall comply with the instructions of the Captain of the Port or his or her designated representative.

(c) Authority. In addition to 33 U.S.C. 1231 and 50 U.S.C. 191, the authority for this section includes 33 U.S.C. 1226.

Dated: May 31, 2002.
P.G. Gerrity,
Commander, Coast Guard, Captain of the Port Detroit.

[FR Doc. 02-14268 Filed 6-6-02; 8:45 am]

BILLING CODE 4910-15-P